DEPARTMENT OF COMMERCE

National Oceanic and Atmospheric Administration

Agency Information Collection Activities; Submission to the Office of Management and Budget (OMB) for Review and Approval; Comment Request; Evaluation of SE Catch Shares Programs

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on August 29, 2024 during a 60-day comment period. This notice allows for an additional 30 days for public comments.

Agency: National Oceanic and Atmospheric Administration, Commerce.

Title: Evaluation of SE Catch Shares Programs.

OMB Control Number: 0648-XXXX.

Form Number(s): [None].

Type of Request: Regular submission [new information collection].

Number of Respondents: 913.

Average Hours per Response: 0.34 hours.

Total Annual Burden Hours: 310.

Needs and Uses: This is a request for a new information collection. The National Marine Fisheries Service (NMFS) proposes to conduct a survey of catch share participants in the southeast region. This evaluation is required by Congress every 5 to 7 years, as stipulated in the Magnuson-Stevens Fishery Conservation and Management Act (MSA) and its subsequent reauthorizations. The proposed socio-economic study will examine the performance of these programs. The survey will collect information on demographics, factors influencing market transparency and efficiency, changes in fishing and marketing practices following the adoption of catch share programs, and miscellaneous attitudinal questions. The data gathered will be used for required, periodic evaluations of these programs and the development of amendments to fishery management plans, which require descriptions of the human and economic environment and socioeconomic analyses of regulatory proposals. Additionally, the information collected will be used to strengthen fishery management decision-making and satisfy various legal mandates under the Magnuson-Stevens Fishery Conservation and Management Act (16 U.S.C. 1801 et seq.; MSA), Executive Order 12866, Regulatory Flexibility Act, Endangered Species Act (ESA), and National Environmental Policy Act (NEPA), and other pertinent statues.

Affected Public: Business or other for-profit organizations.

Frequency: Once.

Respondent's Obligation: Voluntary.

Legal Authority: Magnuson-Stevens Fishery Conservation and Management Act (MSA) and its subsequent reauthorizations.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering the title of the collection.

Sheleen Dumas,
Departmental PRA Compliance Officer, Office of the Under Secretary for Economic Affairs, Commerce Department.

[FR Doc. 2025-05346 Filed 3-27-25; 8:45 am]

BILLING CODE 3510-22-P